NATIONAL ARCHIVES AND RECORDS ADMINISTRATION

Advisory Committee on the Records of Congress; Meeting

AGENCY: National Archives and Records Administration.

ACTION: Notice of Meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: June 11, 2001, from 10:00 a.m. to 11:30 a.m.

ADDRESSES: Bill Emerson Hall, U.S. House of Representatives Page School, Library of Congress, Jefferson Building, Room LJ-A15.

FOR FURTHER INFORMATION CONTACT: Michael L. Gillette, Director, Center for Legislative Archives, 202-501-5350.

SUPPLEMENTARY INFORMATION:

Agenda

Third Report to Congress: Follow-up

Historical Services Legislative Resource Center—Update

NARA Report on Electronic Records Project—Update

Center for Legislative Archives—Update

Other current issues and new business

The meeting is open to the public.

Dated: May 10, 2001.
Mary Ann Hadyka,
Committee Management Officer.

[FR Doc. 01-12427 Filed 5-16-01; 8:45 am]

BILLING CODE 7515-01-P